ENVIRONMENTAL PROTECTION AGENCY

[FRL-7145-6]

Privacy Act of 1974: Deletion of System of Records

AGENCY: Environmental Protection Agency.

ACTION: Notice; termination of six Privacy Act system of records.

SUMMARY: The Environmental Protection Agency (EPA) is proposing to terminate six Privacy Act system of records.

EFFECTIVE DATES: The proposed deletions will be effective upon publication.

ADDRESSES: Send written comments to Judy E. Hutt, Agency Privacy Act Officer, 1200 Pennsylvania Ave. (2822) Washington, DC 20460, telephone (202) 260-6131.

FOR FURTHER INFORMATION CONTACT: Judy E. Hutt, Agency Privacy Act Officer, 1200 Pennsylvania Ave. (2822) Washington, DC 20460.

SUPPLEMENTARY INFORMATION: Several existing EPA systems of records are obsolete.

Dated: October 25, 2001.
Margaret Schneider,
Acting Assistant Administrator, Office of Environmental Information.

Obsolete Systems

1. EPA-2 General Personnel Records

The categories of records in this system are nonpermanent personnel records not required to be maintained by the CSC. The reference to the superseded Civil Service Commission indicates the age of the notice. The Office of Personnel Management (OPM) superseded the CSC in 1978.

EPA-2 may not be an actual system of record. The notice can and should be eliminated as obsolete.

2. EPA-12 Statements of Known Financial Interests

EPA established this system of records following passage of laws in 1976 that imposed financial disclosures on EPA employees. Later laws applied financial disclosures requirements government-wide, and the specific EPA requirement became obsolete. See, e.g., 5 CFR part 2634 (1999) (Office of Government Ethics), and 61 FR 40500 (Aug. 2, 1996).

EPA-12 no longer exists and the notice can be eliminated as obsolete.

3. EPA-15 Enforcement Case Support Expert Resources Inventory

EPA-15 was clearly a system when it began. It appears that it is only still used because the one person at EPA knowledgeable about the system continues to use it occasionally. The data is obsolete, and some procedures for selecting experts have changed. It seems unlikely that use of the records will continue after Lamber leaves the agency.

EPA-15 can be eliminated as obsolete.

4. EPA-16 Automated Information System for Career Management

This is one of two systems identified with the number 16. The original owner is the Procurement and Contracts Management Division. EPA-31, Contract Manager Record System, covers the same function, and that system notice will be updated under the name Acquisition Training System. EPA-16 no longer serves any purpose.

EPA-16 can be eliminated as duplicative.

5. EPA-26 Radon Contractor Proficiency Program

The information in the system is about individuals in their professional capacities as radon contractors, and it may not have been necessary to define it as a system of records. The decision to publish a system was reasonable, however, because of the possibility that some records could include personal information. In any event, the records were scheduled to disappear in the fall of 1999, and there is no reason to maintain the system notice.

EPA-26 can be eliminated as obsolete.

6. EPA-28 EPA Senior Environmental Employment Program Enrollee Records

While the administrative office may receive from program grantees a list of enrollee names, the office does not retrieve enrollee records by individual identifier. Records maintained by grantees are not subject to the Privacy Act because a grantee is not a contractor and is not performing an agency function.

EPA-28 can be eliminated as obsolete.

[FR Doc. 02-3922 Filed 2-21-02; 8:45 am]

BILLING CODE 6560-50-P